ENVIRONMENTAL PROTECTION AGENCY

[EPA-HQ-OPP-2010-0896; FRL-9475-5]

Agency Information Collection Activities; Submission to OMB for Review and Approval; Comment Request; Worker Protection Standard Training and Notification

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval: Worker Protection Standard Training and Notification; EPA ICR No. 1759.06, OMB Control No. 2070-0148. The ICR, which is abstracted below, describes the nature of the information collection and its estimated burden and cost.

DATES: Additional comments may be submitted on or before November 4, 2011.

ADDRESSES: Submit your comments, referencing Docket ID No. EPA-HQ-OPP-2010-0896, to (1) EPA online using http://www.regulations.gov (our preferred method), by e-mail to opp.ncic@epa.gov, or by mail to: EPA Docket Center, Environmental Protection Agency, Office of Pesticide Programs (OPP) Regulatory Public Docket (7502P), 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Lily Negash, (7506P), Environmental Protection Agency, 1200 Pennsylvania Ave., NW., Washington, DC 20460; telephone number: 703-347-8515; fax number: 703-305-5884; e-mail address: negash.lily@epa.gov.

SUPPLEMENTARY INFORMATION: EPA has submitted the following ICR to OMB for review and approval according to the procedures prescribed in 5 CFR 1320.12. On March 16, 2011 (76 FR 14390), EPA sought comments on this ICR pursuant to 5 CFR 1320.8(d). EPA received no comments. Any additional comments on this ICR should be submitted to EPA and OMB within 30 days of this notice.

EPA has established a public docket for this ICR under Docket ID No. EPA-HQ-OPP-2010-0896, which is available for online viewing at http//:www.regulations.gov, or in person viewing at the OPP Regulatory Public Docket in the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744, and the telephone number for the OPP Regulatory Public Docket is (703) 305-5805. Use http://www.regulations.gov to submit or view public comments, access the index listing of the contents of the public docket, and to access those documents in the public docket that are available electronically. Once in the system, select “search,” then key in the docket ID number identified above.

EPA's policy is that public comments, whether submitted electronically or in paper, will be made available for public viewing in http://www.regulations.gov as EPA receives them and without change, unless the comment contains copyrighted material, confidential business information (CBI), or other information whose public disclosure is restricted by statute. When EPA identifies a comment containing copyrighted material, EPA will provide a reference to that material in the version of the comment that is placed in http://www.regulations.gov. The entire printed comment, including the copyrighted material, will be available in the public docket. Although identified as an item in the official docket, information claimed as CBI, or whose disclosure is otherwise restricted by statute, is not included in the official public docket, and will not be available for public viewing in http://www.regulations.gov. For further information about the electronic docket, go to http://www.regulations.gov.

Title: Worker Protection Standard Training and Notification.

ICR Status: This is a request to renew an existing approved collection. This ICR is scheduled to expire on November 30, 2011. Under 5 CFR 1320.12(b)(2), the Agency may continue to conduct or sponsor the collection of information while this submission is pending at OMB.

Abstract: EPA is responsible for the regulation of pesticides under the Federal Insecticide, Fungicide, and Rodenticide Act (FIFRA). The Worker Protection Standard (WPS), codified at 40 CFR part 170, established requirements to protect agricultural workers and pesticide handlers from hazards of pesticides used on farms, on forests, in nurseries, and in greenhouses. EPA regulations in 40 CFR part 170 contain the standard and workplace practices, which are designed to reduce or eliminate exposure to pesticides and establish procedures for responding to exposure-related emergencies. The practices include prohibitions against applying pesticides in a way that would cause exposure to workers and others; a waiting period before workers can return to areas treated with pesticides (restricted entry interval); basic safety training (and voluntary training verification) and posting of information about pesticide hazards, as well as pesticide application information; arrangements for the supply of soap, water, and towels in case of pesticide exposure; and provisions for emergency assistance.

The training verification program facilitates compliance with the training requirements by providing a voluntary method for employers to verify that the required safety information has been provided to workers and handlers. Responses to all other aspects of this information collection activity are mandatory. An agency may not conduct or sponsor, and a person is not required to respond to, a collection of information unless it displays a currently valid OMB control number. The OMB control numbers for EPA's regulations in title 40 of the CFR, after appearing in the Federal Register, are listed in 40 CFR part 9 and included on the related collection instrument or form, if applicable.

This renewal ICR estimates the third party response burden from complying with the WPS requirements. Information is exchanged between agricultural employers and employees at farm, forest, nursery and greenhouse establishments to ensure worker safety. No information is collected by the Agency under this ICR.

Burden Statement: The total annual respondent burden for providing the training and notifications associated with the Worker Protection Standard is estimated to be 1,827,493 hours, with the incremental burden of the various activities ranging from 2 minutes per respondent to provide initial basic safety information to 45 minutes per respondent for handler training. This total estimate includes the third party WPS training and notification requirements. Burden is defined in 5 CFR 1320.3(b).

Respondents/Affected Entities: Agricultural workers, pesticide handlers, employers in farms, nurseries, forestry, and greenhouse establishments e.g., agricultural employers in farms; and (NAICS 111), and agricultural employers in the greenhouse and forestry sector (NAICS 115).

Estimated Number of Respondents: 309,085.

Frequency of Response: As needed.

Estimated Total Annual Hour Burden: 1,827,493 hours.

Estimated Total Annual Cost: $92,729,052.

Changes in the Estimates: There is an increase of 51,362 hours in the total estimated burden currently identified in the OMB Inventory of Approved ICR Burdens. This increase is due to an adjustment in the assumptions and a minor correction in the calculations clarified in the supporting statement.

Dated: September 29, 2011.
John Moses,
Director, Collection Strategies Division.

[FR Doc. 2011-25760 Filed 10-4-11; 8:45 am]

BILLING CODE 6560-50-P